DEPARTMENT OF ENERGY

Federal Energy Regulatory Commission

[Docket No. IC18-4-000]

Commission Information Collection Activities (FERC-582); Comment Request; Extension

AGENCY: Federal Energy Regulatory Commission, Department of Energy.

ACTION: Notice of information collection and request for comments.

SUMMARY: In compliance with the Paperwork Reduction Act of 1995, the Federal Energy Regulatory Commission (Commission or FERC) is soliciting public comment on the currently approved information collection, FERC-582 (Electric Fees, Annual Charges, Waivers, and Exemptions) and submitting the information collection to the Office of Management and Budget (OMB) for review. Any interested person may file comments directly with OMB and should address a copy of those comments to the Commission as explained below. The Commission published a 60-day Notice in the Federal Register in Docket No. IC18-4-000 requesting public comments. FERC received no comments in response to the Notice and is indicating that in its submittal to the OMB.

DATES: Comments on the collection of information are due June 1, 2018.

ADDRESSES: Comments filed with OMB, identified by OMB Control No. 1902-0132, should be sent via email to the Office of Information and Regulatory Affairs: oira_submission@omb.gov. Attention: Federal Energy Regulatory Commission Desk Officer. The Desk Officer may also be reached via telephone at 202-395-8528.

A copy of the comments should also be sent to the Commission, in Docket No. IC18-4-000 by either of the following methods:

• eFiling at Commission's Website: http://www.ferc.gov/docs-filing/efiling.asp.

• Mail/Hand Delivery/Courier: Federal Energy Regulatory Commission, Secretary of the Commission, 888 First Street NE, Washington, DC 20426.

Instructions: All submissions must be formatted and filed in accordance with submission guidelines at: http://www.ferc.gov/help/submission-guide.asp. For user assistance, contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION:

Title: FERC-582, Electric Fees, Annual Charges, Waivers, and Exemptions.

OMB Control No.: 1902-0132.

Type of Request: Three-year extension of the FERC-582 information collection requirements with no changes to the current reporting requirements.

Abstract: The information required by FERC-582 is contained in Title 18 Code of Federal Regulations (CFR) Parts 381 ¹ and 382.²

¹ 18 CFR, Sections 381.105, 381.106, 381.108, 381.302, and 381.305.

² 18 CFR, Sections 382.102, 382.103, 382.105, 382.106, and 382.201.

The Commission uses the FERC-582 to implement the statutory provisions of the Independent Offices Appropriation Act of 1952 (IOAA) ³ which authorizes the Commission to establish fees for its services. In addition, the Omnibus Budget Reconciliation Act of 1986 (OBRA) ⁴ authorizes the Commission to assess and collect fees and annual charges in any fiscal year in amounts equal to all the costs incurred by the Commission in that fiscal year.

³ 31 U.S.C. 9701.

⁴ 42 U.S.C. 7178.

To comply with the FERC-582, respondents submit to the Commission the sum of the megawatt-hours (MWh) of all unbundled transmission (including MWh delivered in wheeling transactions and MWh delivered in exchange transactions) and the megawatt-hours of all bundled wholesale power sales (to the extent the bundled wholesale power sales were not separately reported as unbundled transmission). The data collected in the FERC-582 are drawn directly from the FERC Form 1 ⁵ transmission data. The Commission sums the costs of its electric regulatory program and subtracts all electric regulatory program filing fee collections to determine the total collectible electric regulatory program costs. Then, the Commission uses the data submitted under FERC-582 to determine the total megawatt-hours of transmission of electric energy in interstate commerce. Respondents (public utilities and power marketers) subject to these annual charges must submit FERC-582 data to the Commission by April 30 of each year.⁶ The Commission issues bills for annual charges to respondents. Then, respondents must pay the charges within 45 days of the Commission's issuance of the bill.

⁵ Annual Report of Major Electric Utilities, Licensees and Others (OMB Control No. 1902-0021), described in 18 CFR 141.1.

⁶ 18 CFR 382.201.

Respondents file requests for waivers and exemptions of fees and charges ⁷ based on need. The Commission's staff uses the filer's financial information to evaluate the request for a waiver or exemption of the obligation to pay a fee or an annual charge.

⁷ 18 CFR parts 381 and 382.

Estimate of Annual Burden ⁸: The Commission estimates the burden and cost ⁹ for this information collection as follows.

⁸ Burden is defined as the total time, effort, or financial resources expended by persons to generate, maintain, retain, or disclose or provide information to or for a Federal agency. For further explanation of what is included in the information collection burden, refer to 5 CFR part 1320.

⁹ The Commission staff thinks that the average respondent for this collection is similarly situated to the Commission, in terms of salary plus benefits. Based on FERC's 2017 annual average of $158,754 (for salary plus benefits), the average hourly cost is $76.50/hour.

¹⁰ This includes requirements of 18 CFR 381.105 (methods of payment), 381.106 (waiver), 381.108 (exemption), 381.302 (declaratory order), 381.303 (review of DOE remedial order), 381.304 (DOE denial of adjustment), and 381.305 (OGC interpretation).

FERC-582, Electric Fees, Annual Charges, Waivers, and Exemptions ¹⁰
Number of respondents | Annual number of responses per respondent | Total number of responses | Average burden & cost per response | Total annual burden hrs. & cost | Cost per respondent
(1) | (2) | (1) × (2) = (3) | (4) | (3) * (4) = (5) | (5) / (1) = (5)
67 | 1 | 67 | 1 hr.; $76.50 | 67 hrs.; $5,125.50 | $76.50

Comments: Comments are invited on: (1) Whether the collection of information is necessary for the proper performance of the functions of the Commission, including whether the information will have practical utility; (2) the accuracy of the agency's estimate of the burden and cost of the collection of information, including the validity of the methodology and assumptions used;

(3) ways to enhance the quality, utility and clarity of the information collection; and (4) ways to minimize the burden of the collection of information on those who are to respond, including the use of automated collection techniques or other forms of information technology.

Dated: April 25, 2018.
Kimberly D. Bose,
Secretary.

[FR Doc. 2018-09251 Filed 5-1-18; 8:45 am]

BILLING CODE 6717-01-P